DEPARTMENT OF HEALTH AND HUMAN SERVICES

National Committee on Vital and Health Statistics: Meeting

Pursuant to the Federal Advisory Committee Act, the Department of Health and Human Services (HHS) announces the following advisory committee meeting.

Name: National Committee in Vital and Health Statistics (NCVHS), National Health Information Infrastructure Workgroup, Health Statistics for the 21st Century Workgroup.

Time and Date: January 11, 2001, 9 a.m.-5 p.m.

Place: Lowe's Hotel at L'Enfant Plaza, 480 L'Enfant Plaza, Washington, DC 20201, (202) 484-1000.

Status: Open.

Purpose: Two Workgroups of the NCVHS, the National Health Information Infrastructure Workgroup and the Health Statistics for the 21st Century Workgroup, are conducting a joint public hearing to solicit opinions from the public, including oral and written testimony, about the issues raised in two interim reports: “Toward a National Health Information Infrastructure” and “Shaping a Vision for 21st Century Health Statistics.” The interim reports may be downloaded from the NCVHS homepage at: http://www.ncvhs.hhs.gov/ and all participants are encouraged to review them before the meeting.

The hearing will explore challenges to the development and implementation of a National Health Information Infrastructure (NHII). As envisioned in the interim report, the NHII is the set of technologies, standards, applications, systems, values, and laws that support all facets of individual health, health care, and public health. The broad goal of the NHII is to deliver information to individuals—consumers, patients, and professionals—when and where they need it, so they can use this information to make informed decisions about health and health care. Speakers invited by the NHII workgroup will discuss barriers to accomplishing the objectives described in the report, including financial and technical barriers to the NHII, along with recommendations for actions which could be taken to overcome constraints. Speakers will also address consumer interests and concerns and the role of principal stakeholder groups in achieving the NHII vision. The Workgroup will also hear additional testimony from the public on these areas.

The hearing will also seek comments about major trends and issues in population health and their implications for future information needs described in the report, “Shaping a Vision for 21st Century Health Statistics.” The report outlines themes that have emerged from national consultations involving health statistics users, public health providers, advocacy groups and health care providers at local, state, and Federal levels. The Workgroup's national consultative process has helped to identify trends and gaps in shaping the vision, as well as cross-cutting issues involved and several principles have emerged as essential qualities for developing the health statistics vision. Speakers invited by the 21st Century Workgroup will be asked to discuss specific local and state health statistics needs, specific means for generating private and public cooperation in defining health statistics needs and generating health statistics collaborations. Invited speakers will also be asked to provide specific comments and suggestions on the interim report, particularly as it relates to local and state health statistics needs and private and public cooperation.

Joint panels of speakers will address confidentiality and privacy issues pertinent to both Workgroups and will consider other topics of mutual relevance. The January hearing is the fourth and final of a series of joint public hearings conducted in several regions of the country to solicit testimony on the reports. Information from the hearings will be incorporated in the final reports expected to be completed in early 2001.

Person who would like to make a brief oral comment (3-5 minutes) during the January hearing will be placed on the agenda as time permits. To be included on the agenda, please submit testimony by January 3, 2001, to Debbie M. Jackson at (301) 458-4614, by e-mail at djackson@cdc.gov, or postal address at NCHS, Presidential Building, Room 1100, 6525 Belcrest Road, Hyattsville, Maryland 20782. Persons wishing to submit written testimony only (no more than 2-3 typewritten pages) should also adhere to the due date of January 3, 2001. Testimony will also be accepted on-site as time permits. Please consult Ms. Jackson for further information about these arrangements. Additional information about the meeting will be provided by the NCVHS homepage at: http://www.ncvhs.hhs.gov/ shortly before the meeting date.

Contact Person for More Information: Substantive program information as well as summaries of meetings and a roster of committee members may be obtained from Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/.

Dated: December 11, 2000.
James Scanlon,
Director, Division of Data Policy, Office of the Assistant Secretary for Planning and Evaluation.

[FR Doc. 00-32132 Filed 12-15-00; 8:45 am]

BILLING CODE 4151-05-M